DEPARTMENT OF THE INTERIOR

National Park Service

[N6935; NPS-WASO-NAGPRA-NPS0042041; PPWOCRADN0-PCU00RP14.R50000]

Notice of Intended Repatriation: Milwaukee Public Museum, Milwaukee, WI

AGENCY: National Park Service, Interior.

ACTION: Notice.

SUMMARY: In accordance with the Native American Graves Protection and Repatriation Act (NAGPRA), the Milwaukee Public Museum intends to repatriate certain cultural items that meet the definition of objects of cultural patrimony and that have a cultural affiliation with the Indian Tribes or Native Hawaiian organizations in this notice.

DATES: Repatriation of the cultural items in this notice may occur on or after March 25, 2026.

ADDRESSES: Send additional, written requests for repatriation of the cultural items in this notice to Dawn Scher Thomae, Milwaukee Public Museum, 800 W Wells Street, Milwaukee, WI 53233, email thomae@mpm.edu.

SUPPLEMENTARY INFORMATION: This notice is published as part of the National Park Service's administrative responsibilities under NAGPRA. The determinations in this notice are the sole responsibility of the Milwaukee Public Museum, and additional information on the determinations in this notice, including the results of consultation, can be found in the summary or related records. The National Park Service is not responsible for the determinations in this notice.

Abstract of Information Available

A total of four cultural items have been requested for repatriation. The four objects of cultural patrimony are a wooden bow, a powder horn, a wall basket, and a tin pipe. The bow and powder horn were owned and used by Austin E. Quinney of Stockbridge, Wisconsin. They were collected in Stockbridge at an unknown date by Clarence Sheriff and were purchased by the Milwaukee Public Museum from Sheriff in 1932. The wall basket was collected by Dr. Samuel A. Barrett, MPM Curator of Anthropology from 1909-1921, during a museum funded expedition to the Menominee Indian Reservation in August of 1910. Basket identified as Stockbridge-Munsee. The tin pipe was collected in Stockbridge, Wisconsin, at an unknown date by C. A. Tousey (Stockbridge-Munsee) and was acquired by Henry H. Hayssen, a local collector. It was purchased for the MPM collections from Hayssen in 1897.

The Milwaukee Public Museum has no specific information about the above items being treated with pesticides or preservatives that may represent a potential hazard. However, we do know that other items in the collection, mainly clothing and textiles, were treated with chemicals by our museum in the first part of the 20th century.

Determinations

The Milwaukee Public Museum has determined that:

• The four objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Stockbridge Munsee Community, Wisconsin.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 25, 2026. If competing requests for repatriation are received, the Milwaukee Public Museum must determine the most appropriate requestor prior to repatriation. Requests for joint repatriation of the cultural items are considered a single request and not competing requests. The Milwaukee Public Museum is responsible for sending a copy of this notice to the Indian Tribes and Native Hawaiian organizations identified in this notice and to any other consulting parties.

Authority: Native American Graves Protection and Repatriation Act, 25 U.S.C. 3004 and the implementing regulations, 43 CFR 10.9.

Dated: February 13, 2026.
Melanie O'Brien,
Manager, National NAGPRA Program.

[FR Doc. 2026-03559 Filed 2-20-26; 8:45 am]

BILLING CODE 4312-52-P